DEPARTMENT OF STATE

22 CFR Part 62

[Public Notice: 5998]

Exchange Visitor Programs—Sanctions and Terminations

AGENCY: Department of State.

ACTION: Final rule; withdrawal.

SUMMARY: On November 2, 2007, the State Department published in the Federal Register a final rule entitled Exchange Visitor Programs—Sanctions and Terminations. The Department amended its regulations to add to and modify the existing actions for which the Department may sanction a sponsor. The change in the regulations will streamline the review process to offer sanctioned sponsors the procedural due process rights equal to those that the Administrative Procedure Act guarantees. In addition, the Rule eliminated summary suspension and modifies program suspension to halt the activities of a sponsor that has committed a serious act of omission or commission which has or could have the effect of endangering the health, safety, or welfare of an exchange visitor, or damage the national security interests of the United States. This rule is being withdrawn because it was submitted to OMB for formal significance designation; however, it was published prior to that determination being made. Since OMB's designation was that it is significant and they would like to formally review it, OMB has requested the rule to be withdrawn in its entirety.

DATES: The final rule published at 72 FR 62112, November 2, 2007, is withdrawn effective November 29, 2007.

FOR FURTHER INFORMATION CONTACT: Stanley S. Colvin, Director, Office of Exchange Coordination and Designation, U.S. Department of State, SA-44, 301 4th Street, SW., Room 734, Washington, DC 20547, (202) 203-7415; or e-mail at jexchanges@state.gov.

SUPPLEMENTARY INFORMATION:

Background

On November 2, 2007, the State Department published a final rule (Amendment No. 212 (72 FR 62112)). The rule, to have become effective December 3, 2007, was intended to revise its regulations presently set forth at 22 CFR part 62 subpart D (Sanctions) and 22 CFR part 62 subpart E (Termination and Revocation of Programs). The rule, to have become effective December 3, 2007, was intended to modify the reasons for which sanctions may be imposed and provide for program termination in the case of failure to file an annual management audit, in program categories requiring such audits. The rule would also provide for termination or denial of redesignation for an entire class of designated programs, if the Department determines that they compromise the national security of the United States, or no longer further the public diplomacy mission of the Department.

Reason for Withdrawal

This rule was submitted to OMB for formal significance designation; however, it was published prior to that determination being made. Since OMB's designation was that it is significant and they would like to formally review it, OMB has requested the rule to be withdrawn in its entirety.

Accordingly, the Department withdraws the rule “Exchange Visitor Programs—Sanctions and Terminations” published at 72 FR 62112 on November 2, 2007.

Withdrawal of the rule does not preclude the Department from issuing another rule on the subject matter in the future or committing the agency to any future course of action.

Issued in Washington, DC, on November 26, 2007.
Thelma J. Furlong,
Acting Deputy Assistant Secretary for A/ISS/DIR, Department of State.

[FR Doc. E7-23172 Filed 11-28-07; 8:45 am]

BILLING CODE 4710-24-P